DEPARTMENT OF ENERGY

Federal Energy Regulatory Commission

Combined Notice of Filings #3

Take notice that the Commission received the following electric rate filings:

Docket Numbers: ER12-2178-008; ER10-2172-019; ER11-2016-014; ER10-2184-019; ER10-2183-016; ER10-1048-016; ER10-2192-019; ER11-2056-013; ER10-2178-019; ER10-2174-019; ER11-2014-016; ER11-2013-016; ER10-3308-018; ER10-1020-015; ER13-1536-002; ER10-1078-015; ER10-1080-015; ER11-2010-016; ER10-1081-015; ER10-2180-019; ER11-2011-015; ER12-2528-007; ER11-2009-015; ER10-1143-015; ER11-2007-014; ER11-2005-016.

Applicants: AV Solar Ranch 1, LLC, Baltimore Gas and Electric Company, Cassia Gulch Wind Park, LLC, CER Generation, LLC, CER Generation II, LLC, Commonwealth Edison Company, Constellation Energy Commodities Group Maine, LLC, Constellation Mystic Power, LLC, Constellation NewEnergy, Inc., Constellation Power Source Generation Inc., CR Clearing, LLC, Cow Branch Wind Power, LLC, Criterion Power Partners, LLC, Exelon Framingham, LLC, Exelon Generation Company, LLC, Exelon New Boston, LLC, Exelon West Medway, LLC, Exelon Wind 4, LLC, Exelon Wyman, LLC, Handsome Lake Energy, LLC, Harvest WindFarm, LLC, High Mesa Energy, LLC, Michigan Wind 1, LLC, PECO Energy Company, Tuana Springs Energy, LLC, Wind Capital Holdings, LLC.

Description: Updated Market Power Analysis for the Northeast Region of the Exelon Market-Based Rate Entities.

Filed Date: 12/30/13.

Accession Number: 20131230-5187.

Comments Due: 5 p.m. ET 2/28/14.

Docket Numbers: ER14-897-000.

Applicants: Southern California Edison Company.

Description: Southern California Edison Company submits Assignment Agmt with APS & Resale Tariff Edison-Arizona Transmission Agmt to be effective 2/28/2014.

Filed Date: 12/30/13.

Accession Number: 20131230-5193.

Comments Due: 5 p.m. ET 1/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2013.
Nathaniel J. Davis, Sr.,
Deputy Secretary.

[FR Doc. 2014-00013 Filed 1-6-14; 8:45 am]

BILLING CODE 6717-01-P